ENVIRONMENTAL PROTECTION AGENCY

40 CFR PART 300

[FRL-6939-5]

National Oil and Hazardous; Substances Pollution Contingency Plan; National Priorities List

AGENCY: Environmental Protection Agency (EPA).

ACTION: Direct final partial deletion of Release Block D and Release Block H of the Department of Energy (DOE) Mound Superfund Site from the National Priorities List; request for comments.

SUMMARY: The Environmental Protection Agency (EPA) Region 5 announces the deletion of the portions of the Department of Energy Mound Superfund Site (Mound Site) known as Release Block D and Release Block H from the National Priorities List (NPL). EPA requests public comment on this action. The NPL constitutes appendix B to the National Oil and Hazardous Substances Pollution Contingency Plan (NCP), 40 CFR part 300, which EPA promulgated pursuant to section 105 of the Comprehensive Environmental Response, Compensation, and Liability Act (CERCLA).

This partial deletion pertains to Release Block D, a 12-acre parcel of property along the eastern border of the Mound Site, containing two industrial buildings. This also pertains to Release Block H, a 14-acre parcel of property consisting of the Mound plant parking lot. The Department of Energy (DOE), with the concurrence of EPA, Region 5, and the Ohio Environmental Protection Agency (OEPA), has issued Records of Decision (RODs) for Release Blocks D and H, selecting institutional controls as the final remedy for both areas. The purpose of institutional controls is to ensure that these properties will be restricted to industrial uses. EPA bases its partial deletion of Release Blocks D and H on the determination by EPA and the State of Ohio, through OEPA, that all appropriate actions under CERCLA have been implemented to protect human health and the environment at Release Blocks D and H.

This partial deletion pertains only to Release Blocks D and H. EPA may propose to delete additional portions of the Mound Site in the future. Until then, however, all parts of the Mound Site, other than Release Blocks D and H, will remain on the NPL.

DATES: This “direct final” action will be effective April 16, 2001 unless U.S. EPA receives dissenting comments by March 19, 2001. If written dissenting comments are received, U.S. EPA will publish a timely withdrawal of the rule in the Federal Register informing the public that the rule will not take effect.

ADDRESSES: Comments may be mailed to Timothy Fischer, Remedial Project Manager or Gladys Beard, Associate Remedial Project Manager, Superfund Division, U.S. EPA Region, 5 77 W. Jackson Blvd. (SR-6J), Chicago, IL 60604. Comprehensive information on the Mound Site is available at U.S. EPA's Region 5 office and at the local information repository located at: The CERCLA Public Reading Room, Miamisburg Senior Adult Center, 305 Central Avenue, Miamisburg, OH 45342. Requests for comprehensive copies of documents should be directed formally to the Region 5 Docket Office. The address and phone number for the Regional Docket Officer is Jan Pfundheller (H-7J), U.S. EPA, Region 5, 77 W. Jackson Blvd., Chicago, IL 60604, (312) 353-5821.

FOR FURTHER INFORMATION CONTACT: Timothy Fischer, Remedial Project Manager, at (312) 886-5787 (SR-6J), or Gladys Beard, Associate Remedial Project Manager, Superfund Division (SR-6J), U.S. EPA, Region 5, 77 W. Jackson Blvd., Chicago, IL 60604, (312) 886-7253, or Stuart Hill (P-19J), Office of Public Affairs, U.S. EPA Region 5, 77 W. Jackson Blvd., Chicago, IL 60604, (312) 886-0689.

SUPPLEMENTARY INFORMATION:

Table of Contents

I. Introduction

II. NPL Deletion Criteria

III. Deletion Procedures

IV. Basis for Intended Partial Site Deletion

V. Action

I. Introduction

The Environmental Protection Agency (EPA) Region 5 announces the deletion of two portions of the Department of Energy Mound Superfund Site (Mound Site), located in Miamisburg, Montgomery County, Ohio, from the National Priorities List (NPL). The NPL constitutes appendix B of the National Oil and Hazardous Substances Pollution Contingency Plan (NCP), 40 CFR part 300. EPA, Region 5, requests comments on this action. This partial deletion pertains to Release Block D, a 12-acre parcel of property along the eastern border of the Mound Site, containing two industrial buildings. Release Block D is bounded on the south by undeveloped Mound property, on the east by Mound Road, on the north by a parking lot and small group of buildings, and on the west by a fenced storage area. This partial deletion also pertains to Release Block H, a 14-acre parcel of property consisting of the Mound plant parking lot. Release Block H is bounded on the south by the main plant entrance, on the east by Mound Road and an offsite community golf course, on the north by offsite residences, and on the west by a fenced parking lot.

For both Release Blocks D and H, DOE, EPA, and OEPA identified buildings and potential release sites, evaluated them, and addressed any significant contamination through removal actions. At the conclusion of these activities, residual risk assessments were performed. These assessments assumed that the land comprising Release Blocks D and H would continue to be used for industrial purposes only, and concluded that, on that basis, they posed no significant risks to human health or the environment. On February 25, 1999, DOE issued a Record of Decision for Release Block D, selecting institutional controls as the final remedy. The ROD called for imposing deed restrictions on the property, limiting it to industrial use and preventing any exposure to children. The Proposed Plan and Record of Decision listed the restriction as: (1) Ensure that industrial land use is maintained; (2) Prohibit the use of bedrock groundwater; (3) Provide site access for federal and state agencies for the purpose of taking response actions, including sampling and monitoring; and (4) Prohibit removal of RB H soils from the DOE Mound property (as owned in 1998) boundary without approval from Ohio Department of Health (ODH) and the Ohio Environmental Protection Agency (OEPA) or their successor agencies. The ROD also committed DOE to ensure compliance with the deed restrictions over the long term. On June 18, 1999, DOE issued a similar Record of Decision for Release Block H, selecting institutional controls as the final remedy. Once again, DOE committed itself to impose and enforce deed restrictions on the property, limiting it to industrial use and preventing any exposure to children. Subsequently, DOE conveyed both Release Blocks D and H to the Miamisburg Mound Community Improvement Corporation. The sales contracts and deeds for these transactions incorporated the land use restrictions set forth in the two Records of Decision.

EPA is deleting Release Blocks D and H because all appropriate CERCLA response activities have been completed in those areas. EPA may propose to delete additional portions of the Mound Site in the future. Until then, however, all parts of the Mound Site, other than Release Blocks D and H, will remain on the NPL.

The NPL is a list maintained by EPA of sites that EPA has determined present a significant risk to public health, or the environment. Sites on the NPL may be the subject of remedial actions financed by the Hazardous Substance Superfund (Fund). Pursuant to 40 CFR 300.425(e) of the NCP, any site or portion of a site deleted from the NPL remains eligible for Fund-financed remedial actions if conditions at the site warrant such action.

EPA will accept comments on this notice for thirty (30) days after publication of this notice in the Federal Register and a newspaper of record.

II. NPL Deletion Criteria

The NCP establishes the criteria that EPA uses to delete sites from the NPL. In accordance with 40 CFR 300.425(e), sites or portions of a Site may be deleted from the NPL where no further response is appropriate to protect public health or the environment. In making such a determination pursuant to 300.425(e), EPA will consider, in consultation with the State, whether any of the following criteria have been met:

Section 300.425(e)(1)(i): Responsible parties or other persons have implemented all appropriate response actions required; or Section 300.425(e)(1)(ii): All appropriate Fund-financed response under CERCLA has been implemented, and no further response action by responsible parties is appropriate; or Section 300.425(e)(1)(iii). The Remedial Investigation has shown that the release poses no significant threat to public health or the environment and, therefore, taking of remedial measures is not appropriate.

Deletion of a portion of a site from the NPL does not preclude eligibility for subsequent Fund-financed actions at the area deleted if future site conditions warrant such actions. Section 300.425(e)(3) of the NCP provides that Fund-financed actions may be taken at sites that have been either totally or partially deleted from the NPL. A partial deletion of a site from the NPL does not affect or impede EPA's ability to conduct CERCLA response activities at areas not deleted and remaining on the NPL. (Note that in this case, because the remainder of the Mound Site is federally owned, Fund-financed activities would be subject to the limitations set forth in Section 111(e)(3) of CERCLA.) In addition, deletion of a portion of a site from the NPL does not affect the liability of responsible parties or impede agency efforts to recover costs associated with response efforts.

III. Deletion Procedures

Deletion of a portion of a site from the NPL does not itself create, alter, or revoke any person's rights or obligations. The NPL is designed primarily for informational purposes and to assist Agency management.

The following procedures were used for the intended deletion of Release Blocks D and H at the Mound Site:

(1) EPA has recommended the partial deletion and has prepared the relevant documents.

(2) The State of Ohio, through OEPA, has concurred by letter dated November 22, 2000, with this partial deletion.

(3) Concurrent with this national Direct Final Partial Deletion, a notice has been published in a newspaper of record and has been distributed to appropriate Federal, State, and local officials, and other interested parties. These notices announce a thirty (30) day public comment period on the deletion package, which commences on the date of publication of this notice in the Federal Register and a newspaper of record.

(4) EPA has made all relevant documents available at the information repositories listed previously.

This Federal Register notice, and a concurrent notice in a newspaper of record, announce the initiation of a thirty (30) day public comment period and the availability of the Direct Final Partial Deletions. EPA is requesting only dissenting comments on this Notice. All critical documents needed to evaluate EPA's decision are included in the Deletion Docket and are available for review at the information repositories.

Upon completion of the thirty (30) day public comment period, EPA will evaluate all comments received before issuing the final decision on the partial deletion. If necessary, EPA will prepare a Responsiveness Summary responding to each significant comment submitted during the public comment period. The Responsiveness Summary will be made available to the public at the information repositories listed previously. Members of the public are encouraged to contact EPA Region 5 to obtain a copy of the Responsiveness Summary.

IV. Basis for Intended Partial Site Deletion

The following provides EPA's rationale for deletion of Release Blocks D and H of the Mound Site from the NPL and EPA's finding that the criteria in 40 CFR 300.425(e) are satisfied:

Background

The Mound Site is located in Miamisburg, Ohio, about 10 miles south of Dayton and 45 miles north of Cincinnati. The 306-acre site consists of a number of industrial buildings in the northern portion of the Mound site, and open land in the southern portion. Most of the Site is owned by the United States Department of Energy, which began operations there in 1948 involving the manufacture of triggering devices for nuclear weapons. The Mound Site is located near an ancient Indian mound; hence the name of the DOE facility—the Mound Plant. As a result of past disposal practices and contaminant releases to the environment, including radioactive contaminants, the Mound Site was listed on the NPL on November 21, 1989 (54 FR 48184). DOE signed a CERCLA Section 120 Federal Facility Agreement (FFA) with EPA in October, 1990. In 1993, this agreement was modified and expanded to include OEPA. DOE serves as the lead agency for CERCLA-related activities at the Mound Site.

DOE, EPA, and OEPA originally planned to address the Mound Site's environmental restoration issues under a set of Operable Units (OUs), each of which would include a number of Potential Release Sites (PRSs). For each OU, the site would follow the traditional CERCLA process: a Remedial Investigation/Feasibility Study (RI/FS), followed by a Record of Decision (ROD) and Remedial Design/Remedial Action (RD/RA). In 1995, after beginning remedial investigations for several OUs, DOE and its regulators concluded that the OU approach was inefficient for Mound due to the number and variety of contaminants on the Site. DOE, EPA, and OEPA agreed that it would be better to evaluate each PRS or building separately, use removal action authority to remediate each one as needed, and establish a goal of no additional remediation other than institutional controls for the final remedy. Following completion of removal actions, a residual risk evaluation would be conducted to ensure that industrial use of the block or building would be safe. DOE, EPA, and OEPA called this approach the “Mound 2000 Process.”

The Mound 2000 Process established a Core Team consisting of representatives of DOE, EPA, and OEPA. The Core Team evaluates each of the potential contamination problems at the Mound Site and recommends the appropriate response. It uses information gathered from site visits, existing data, and knowledge of Mound Plant processes to determine whether or not any action is warranted for potential release sites. If a decision cannot be made based on the information on hand, the Core Team identifies the specific, additional information needed. The Core Team also receives input from technical experts and from the public. Thus, all stakeholders have an opportunity to express their opinions or suggestions for each potential problem area.

Block D Response Actions

Under the Mound 2000 Process, the Core Team identified 18 potential release sites, including 2 buildings, within the limits of Block D. Only one—an area used to dispose of soil contaminated with thorium—needed an active response. DOE carried out a removal action in October, 1998. Following completion of the removal action, a residual risk assessment determined that furture industrial use of Block D posed no significant risk to human health or the environment. In order to ensure that future use of Block D conforms to the industrial uses contemplated in the risk assessment, DOE, with the concurrence of EPA and OEPA, selected institutional controls as the final remedy for Block D in a Record of Decision issued on February 25, 1999. The ROD called for imposing deed restrictions on the property, limiting it to industrial use and preventing any exposure to children. The ROD also committed DOE to ensure compliance with the deed restrictions over the long term.

Block H Response Actions

Under the Mound 2000 Process, the Core Team identified only one potential release site within the limits of Block H. DOE, EPA, and OEPA determined that no active response was required. A residual risk assessment determined that industrial use of Block H posed no significant risk to human health or the environment. In order to ensure that future use of Block H conforms to the industrial uses contemplated in the risk assessment, DOE, with the concurrence of EPA and OEPA, selected institutional controls as the final remedy for Block H in a Record of Decision issued on June 18, 1999. The ROD called for imposing deed restrictions on the property, limiting it to industrial use and preventing any exposure to children. The ROD also committed DOE to ensure compliance with the deed restrictions over the long term.

Community Involvement

Public participation activities for Release Blocks D and H have been satisfied as required in CERCLA section 113(k), 42 U.S.C. 9613(k), and Section 117, 42 U.S.C. 9617. As part of the Mound 2000 Process, DOE routinely solicited public comment on the Core Team's recommended response at each Potential Release Site (PRS) and on the residual risk assessments. The final remedy decisions for Release Blocks D and H were each preceded by the issuance of a proposed plan, a notice in the local newspapers commencing a 30-day public comment period, and a public meeting where citizens could ask questions and make comments. All documents DOE relied upon in making its remedy decisions were available for public inspection at the The CERCLA Public Reading Room, Miamisburg Senior Adult Center, 305 Central Avenue, Miamisburg, OH 45342. When it issued its remedy decisions, DOE included a written response to all significant comments.

Current Status

DOE has implemented the RODs for Release Blocks D and H by placing restrictions in the deeds for each property. DOE conveyed Release Block D to the Miamisburg Mound Community Improvement Corporation on March 18, 1999. DOE conveyed Release Block H to the Miamisburg Mound Community Improvement Corporation on August 5, 1999. Because the remedies for Release Blocks D and H do not allow unlimited use of and unrestricted exposure to each property, DOE, in consultation with EPA, OEPA, and the Ohio Department of Health, will review the remedial actions each year to assure that human health and the environment are being protected by the remedial actions being implemented.

While EPA does not believe that any future response actions for Release Blocks D and/or H will be needed, if future conditions warrant such action, these areas of the Mound Site would be eligible for future Fund-financed response actions. This partial deletion does not alter the status of the remainder of the Mound Site, which is not proposed for deletion and remains on the NPL.

V. Action

EPA, with concurrence from the State of Ohio, has determined that all appropriate CERCLA response actions have been completed at Release Blocks D and H, and that protection of human health and the environment has been achieved in these areas. Therefore, EPA is deleting Release Blocks D and H of the Mound Superfund Site from the NPL.

This action will be effective April 16, 2001. However, if EPA receives dissenting comments by March 19, 2001, EPA will publish a document that withdraws this action.

List of Subjects in 40 CFR Part 300

Air pollution control, Chemicals, Hazardous substances, Hazardous waste, Intergovernmental relations, Penalties; Reporting and recordkeeping requirements, Superfund, Water pollution control, Water supply.

Dated: January 19, 2001.
David A. Ullrich,
Acting Regional Administrator, U.S. EPA, Region 5.

Part 300, title 40 of chapter 1 of the Code of Federal Regulations is amended as follow:

PART 300—[AMENDED]

1. The authority citation for Part 300 continues to read as follows:

Authority: 33 U.S.C. 1321(c)(2); 42 U.S.C. 9601-9657; E.O. 12777, 56 FR 54757, 3 CFR, 1991 Comp.; p.351; E.O. 12580, 52 FR 2923, 3 CFR, 1987 Comp.; p. 193.

Appendix B—[Amended]

2. Table 2 of appendix B to Part 300 is amended by revising the entry for “Mound Plant (USDOE)” Miamisburg, Ohio to read as follows:

Appendix B to Part 300—National Priorities List

Table 2.—Federal Facilities Section
State | Sitename | City/County | (Notes) ¹
* * * * * * *
OH | Mound Plant (USDOE) | Miamisburg | P
* * * * *
¹ P=Sites with partial deletion(s).

* * * * *

[FR Doc. 01-3612 Filed 2-14-01; 8:45 am]

BILLING CODE 6560-50-U